DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Adams (FEMA Docket No.: B-2153). | Unincorporated areas of Adams County (20-08-0723P). | The Honorable Eva J. Henry, Chair, Adams County Board of Commissioners, 4430 South Adams County Parkway, Suite C5000A, Brighton, CO 80601. | Adams County Community and Economic Development, 4430 Adams County Parkway, 1st Floor, Suite W2000, Brighton, CO 80601. | Oct. 28, 2021 | 080001
Eagle (FEMA Docket No.: B-2164). | Unincorporated areas of Eagle County (21-08-0109P). | Mr. Jeff Shroll, Eagle County Manager, P.O. Box 850, Eagle, CO 81631. | Eagle County Engineering Department, 500 Broadway Street, Eagle, CO 81631. | Nov. 5, 2021 | 080051
El Paso (FEMA Docket No.: B-2153). | City of Colorado Springs (20-08-0822P). | The Honorable John Suthers, Mayor, City of Colorado Springs, 30 South Nevada Avenue, Suite 601, Colorado Springs, CO 80903. | Pikes Peak Regional Development Center, 2880 International Circle, Colorado Springs, CO 80910. | Oct. 27, 2021 | 080060
Weld (FEMA Docket No.: B-2153). | Town of Windsor (21-08-0116P). | The Honorable Paul Rennemeyer, Mayor, Town of Windsor, 301 Walnut Street Windsor, CO 80550. | Town Hall, 301 Walnut Street, Windsor, CO 80550. | Nov. 1, 2021 | 080264
Weld (FEMA Docket No.: B-2153). | Unincorporated areas of Weld County (21-08-0116P). | The Honorable Steve Moreno, Chairman, Weld County Board of Commissioners, P.O. Box 758, Greeley, CO 80631. | Weld County Administration Building, 1150 O Street, Greeley, CO 80631. | Nov. 1, 2021 | 080266
Connecticut: Middlesex (FEMA Docket No.: B-2161). | Town of Clinton (21-01-0179P). | Mr. Karl Kilduff, Manager, Town of Clinton, 54 East Main Street Clinton, CT 06413. | Planning and Zoning Department, 54 East Main Street, Clinton, CT 06413. | Nov. 12, 2021 | 090061
Florida:
Bay (FEMA Docket No.: B-2161). | City of Panama City (20-04-4646P). | Mr. Mark McQueen, Manager, City of Panama City, 501 Harrison Avenue Panama City, FL 32401. | City Hall, 501 Harrison Avenue, Panama City, FL 32401. | Nov. 10, 2021 | 120012
Bay (FEMA Docket No.: B-2161). | Unincorporated areas of Bay County (20-04-4646P). | The Honorable Philip “Griff” Griffitts, Chairman, Bay County Board of Commissioners, 840 West 11th Street, Panama City, FL 32401. | Bay County Planning and Zoning Division, 840 West 11th Street, Panama City, FL 32401. | Nov. 10, 2021 | 120004
Lee (FEMA Docket No.: B-2161). | Town of Fort Myers Beach (21-04-3079P). | The Honorable Ray Murphy, Mayor, Town of Fort Myers Beach, 2525 Estero Boulevard, Fort Myers Beach, FL 33931. | Community Development Department, 2525 Estero Boulevard, Fort Myers Beach, FL 33931. | Nov. 10, 2021 | 120673
Leon (FEMA Docket No.: B-2159). | City of Tallahassee (21-04-3156X). | The Honorable John E. Dailey, Mayor, City of Tallahassee, 300 South Adams Street, Tallahassee, FL 32301. | Stormwater Management Department, 408 North Adams Street, Tallahassee, FL 32301. | Nov. 4, 2021 | 120144
Leon (FEMA Docket No.: B-2159). | Unincorporated areas of Leon County (21-04-3156X). | The Honorable Rick Minor, Chairman, Leon County Commission, 301 South Monroe Street, Tallahassee, FL 32301. | Department of Development Support and Environmental Management, 435 North Macomb Street, 2nd Floor, Tallahassee, FL 32301. | Nov. 4, 2021 | 120143
Monroe (FEMA Docket No.: B-2159). | City of Key Colony Beach (21-04-2856P). | The Honorable Ron Sutton, Mayor, City of Key Colony Beach, 600 West Ocean Drive, Key Colony Beach, FL 33051. | City Hall, 600 West Ocean Drive, Key Colony Beach, FL 33051. | Nov. 8, 2021 | 125121
Monroe (FEMA Docket No.: B-2159). | Unincorporated areas of Monroe County (21-04-3074P). | The Honorable Michelle Coldiron, Mayor, Monroe County Board of Commissioners, 25 Ships Way, Big Pine Key, FL 33043. | Monroe County Building Department, 2798 Overseas Highway, Suite 300, Marathon, FL 33050. | Nov. 12, 2021 | 125129
Pasco (FEMA Docket No.: B-2159). | Unincorporated areas of Pasco County (20-04-5876P). | The Honorable Dan Biles, Pasco County Administrator, 8731 Citizens Drive, Suite 350, New Port Richey, FL 34654. | Pasco county Government Center 8731 Citizens Drive New Port Richey, FL 34654. | Nov. 1, 2021 | 120230
Georgia: Columbia (FEMA Docket No.: B-2159). | City of Harlem (21-04-3151P). | The Honorable Roxanne Whitaker, Mayor, City of Harlem, P.O. Box 99 Harlem, GA 30814. | City Hall, 320 North Louisville Street, Harlem, GA 30814. | Nov. 12, 2021 | 130266
Maryland: Frederick (FEMA Docket No.: B-2159). | City of Frederick (21-03-0422P). | The Honorable Michael O'Connor, Mayor, City of Frederick, 101 North Court Street, Frederick, MD 21701. | Engineering Department, 140 West Patrick Street, 3rd Floor, Frederick, MD 21701. | Nov. 1, 2021 | 240030
Nevada: Nye (FEMA Docket No.: B-2159). | Unincorporated areas of Nye County (21-09-0364P). | The Honorable Debra Strickland, Chair, Nye County Board of Commissioners, 2100 East Walt Williams Drive, Suite 100, Pahrump, NV 89048. | Nye County Planning Department, 250 North Highway 160, Suite 1, Pahrump, NV 89050. | Nov. 1, 2021 | 320018
Rhode Island: Washington (FEMA Docket No.: B-2159). | Town of Charlestown (21-01-0755P). | The Honorable Deborah A. Carney, President, Town of Charlestown Council, 4540 South County Trail, Charlestown, RI 02813. | Building/Zoning and Floodplain Management Department, 4540 South County Trail, Charlestown, RI 02813. | Oct. 29, 2021 | 445395
South Carolina: Horry (FEMA Docket No.: B-2153). | City of North Myrtle Beach (21-04-0914P). | Mr. Michael Mahaney, Manager, City of North Myrtle Beach, 1018 2nd Avenue South, North Myrtle Beach, SC 29582. | Planning and Development Department, 1018 2nd Avenue South, North Myrtle Beach, SC 29582. | Oct. 27, 2021 | 450110
Texas:
Collin (FEMA Docket No.: B-2153). | City of Plano (21-06-0228P). | The Honorable John B. Muns, Mayor, City of Plano, 1520 K Avenue, Plano, TX 75074. | City Hall, 1520 K Avenue, Plano, TX 75074. | Nov. 5, 2021 | 480140
Rockwall (FEMA Docket No.: B-2153). | City of Fate (21-06-0525P). | The Honorable David Billings, Mayor, City of Fate, 1900 C.D. Boren Parkway, Fate, TX 75087. | Planning and Development Department, 1900 C.D. Boren Parkway, Fate, TX 75087. | Nov. 1, 2021 | 480544
Rockwall (FEMA Docket No.: B-2159). | City of Rockwall (20-06-3796P). | Ms. Mary Smith, Interim City Manager, City of Rockwall, 385 South Goliad Street, Rockwall, TX 75087. | Planning and Zoning Department, 385 South Goliad Street, Rockwall, TX 75087. | Nov. 1, 2021 | 480547

[FR Doc. 2021-27607 Filed 12-20-21; 8:45 am]

BILLING CODE 9110-12-P